DEPARTMENT OF HEALTH AND HUMAN SERVICES

Centers for Disease Control and Prevention Board of Scientific Counselors, National Center for Injury Prevention and Control, (BSC, NCIPC)

AGENCY: Centers for Disease Control and Prevention (CDC), Department of Health and Human Services (HHS).

ACTION: Notice of meeting.

SUMMARY: In accordance with the Federal Advisory Committee Act, the CDC announces the following meeting for the Board of Scientific Counselors, National Center for Injury Prevention and Control, (BSC, NCIPC). This meeting is open to the public limited only by the space and ports available. The meeting room accommodates 70 participants and there will be 75 ports available. Due to the limited availability of phone line ports, we are encouraging the pubic to please register using the link provided: Register Here. There will be a public comment period at the end of the day from 03:30 p.m.—04:00 p.m.

DATES: The meeting will be held on December 12, 2018, 09:00 a.m. to 04:30 p.m., EST.

ADDRESSES: Center for Disease Control and Prevention, Chamblee Campus, Building 106, Conference Room 1-A, 4770 Buford Highway, Atlanta, Georgia 30341 and via Teleconference: Dial-In Number: 1-888-780-9652, Participant Code: 8435823.

FOR FURTHER INFORMATION CONTACT: Gwendolyn H. Cattledge, Ph.D., M.S.E.H., Deputy Associate Director for Science, NCIPC, CDC, 4770 Buford Highway, NE, Mailstop F-63, Atlanta, GA 30341, Telephone (770) 488-1430. Email address: ncipcbsc@cdc.gov

SUPPLEMENTARY INFORMATION:

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury. The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters to be Considered: The Board of Scientific Counselors will discuss science matters to include research strategies needed to guide the Center's focus on reducing opioid overdose and to review the recommendations from the opioid prescribing for acute and chronic pain workgroup. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-23976 Filed 11-1-18; 8:45 am]

BILLING CODE 4163-19-P